DEPARTMENT OF HOMELAND SECURITY

Coast Guard

33 CFR Part 165

[Docket Number USCG-2024-0730]

RIN 1625-AA00

Safety Zone; Grosse Tete Passenger Ferry, Iberville LA

AGENCY: Coast Guard, DHS.

ACTION: Temporary final rule.

SUMMARY: The Coast Guard is establishing a temporary safety zone for all navigable waters within a 300 yard radius of the Grosse Tete passenger ferry at MM 46 of the Port Allen Route, Iberville, LA. The safety zone is needed to protect ferry operations for crossing school students during morning and afternoon commutes as a result of the Grosse Tete bridge closure. Entry of vessels or persons into this zone is prohibited unless specifically authorized by the Captain of the Port (COTP) New Orleans.

This rule is effective without actual notice from August 22, 2024 through noon on October 9, 2024. For the purposes of enforcement, actual notice will be used from noon on August 9, 2024, through August 22, 2024.

ADDRESSES: To view documents mentioned in this preamble as being available in the docket, go to https://www.regulations.gov, type USCG-2024-0730 in the search box and click “Search.” Next, in the Document Type column, select “Supporting & Related Material.”

FOR FURTHER INFORMATION CONTACT: If you have questions on this rule, call or email LT Benjamin Adrien, Marine Safety Unit Baton Rouge, U.S. Coast Guard; telephone: (225) 281-2875, email: benjamin.d.adrien@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Coast Guard is issuing this temporary rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because immediate action is needed to respond to Grosse Tete bridge allision and associated ferry operations. It is impracticable to publish an NPRM because we must establish this safety zone on August 9th, 2024.

Under 5 U.S.C. 553(d)(3), the Coast Guard finds that good cause exists for making this rule effective less than 30 days after publication in the Federal Register. Delaying the effective date of this rule would be impracticable because immediate action is needed to mitigate potential safety hazards associated with the bridge closure and passenger ferry operations.

III. Legal Authority and Need for Rule

The Coast Guard is issuing this rule under authority in 46 U.S.C. 70034. The COTP New Orleans has determined a safety zone is needed for the safety of passenger ferry operations at the Grosse Tete bridge on the Port Allen Route MM 46, Iberville, LA. The safety zone is needed to protect and facilitate local school students during morning and afternoon commutes across the Port Allen Route via passenger ferry on Monday through Friday at 6 a.m. to 8 a.m. and 2:30 p.m. to 4:30 p.m. except on Federal holidays.

IV. Discussion of the Rule

This rule establishes a temporary safety zone for all navigable waters within a 300 yard radius of the Grosse Tete passenger ferry at MM 46 of the Port Allen Route, Iberville, LA. The zone will be effective Monday through Friday from 6 a.m. to 8 a.m. and 2:30 p.m. to 4:30 p.m. except on Federal holidays. No vessel or person will be permitted to enter the safety zone without obtaining permission from the COTP or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, this rule has not been reviewed by the Office of Management and Budget (OMB).

This regulatory action determination is based on the size, location, duration, and scope of the safety zone. The safety zone is limited in size and duration as it covers a 300 yard radius of the Grosse Tete passenger ferry at MM 46 of the Port Allen Route, Iberville, LA. The zone will be effective Monday through Friday from 6 a.m. to 8 a.m. and 2:30 p.m. to 4:30 p.m. except on Federal holidays. The Coast Guard would issue a Broadcast Notice to Mariners via VHF-FM marine channel 16 about the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian Tribes, on the relationship between the Federal Government and Indian Tribes, or on the distribution of power and responsibilities between the Federal Government and Indian Tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969(42 U.S.C. 4321-4370f), and have determined this action is one of a category of actions that do not individually or cumulatively have a significant effect on the human environment. This rule involves a safety zone that will prohibit entry within a 300 yard radius of the Grosse Tete passenger ferry at MM 46 of the Port Allen Route, Iberville, LA. The zone will be effective Monday through Friday from 6 a.m. to 8 a.m. and 2:30 p.m. to 4:30 p.m. except on Federal Holidays. This type of action is categorically excluded from further review under paragraph L60(c) of Appendix A, Table 1 of DHS Instruction Manual 023-01-001-01, Rev. 1.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.T08-0730 to read as follows:

§ 165.T08-0730 Safety Zone; Grosse Tete Passenger Ferry, Iberville, LA.

(a) Locations. The following is a temporary safety zone:

(1) All waters within a 300 yard radius of the Grosse Tete passenger ferry at 30°16′0.22″ N, 091°19′16.91″ W, on the Port Allen Route at MM 46, Iberville, LA.

(2) The points are in NAD 83.

(b) Definition. The term “designated representative” means Coast Guard Patrol Commanders, including Coast Guard coxswains, petty officers, and other officers operating Coast Guard vessels, and Federal, state, and local officers designated by or assisting the COTP in the enforcement of the safety zone.

(c) Regulations. (1) No person or vessel will be permitted to enter, transit, anchor, or remain within the safety zone unless authorized by the COTP New Orleans or a designated representative. If authorization is granted, persons and/or vessels receiving such authorization must comply with the instructions of the COTP New Orleans or designated representative.

(2) Persons who must notify or request authorization from the COTP may do so by telephone at (504) 365-2540 or may contact a designated representative via VHF radio on channel 16.

(d) Enforcement period. This rule will be enforced from 12 p.m. on August 9, 2024, through 12 p.m. on October 9, 2024.

Dated: August 9, 2024.
G.A. Callaghan,
Captain, U.S. Coast Guard, Captain of the Port New Orleans.

[FR Doc. 2024-18869 Filed 8-21-24; 8:45 am]

BILLING CODE 9110-04-P